DEPARTMENT OF COMMERCE

Foreign-Trade Zones Board

(Docket 1-2006)

Foreign-Trade Zone 43 Battle Creek, Michigan, Application for Subzone, Pfizer Inc, (Pharmaceutical Products), Kalamazoo, MI

An application has been submitted to the Foreign-Trade Zones Board (the Board) by the City of Battle Creek, grantee of FTZ 43, requesting special-purpose subzone status for the manufacturing and warehousing facilities of Pfizer Inc (Pfizer), located in Kalamazoo, Michigan. The application was submitted pursuant to the provisions of the Foreign-Trade Zones Act, as amended (19 U.S.C. 81a-81u), and the regulations of the Board (15 CFR part 400). It was formally filed on January 3, 2006.

The Pfizer facilities (3,900 employees) consist of two sites on 498 acres in Kalamazoo, Michigan: Site 1 (456 acres) is located at 7171 Portage Road; and Site 2 (42 acres) is located at 2605 E. Kilgore Road. The facilities are used for the manufacturing and warehousing of pharmaceutical, consumer health care and animal health care products. Initial zone savings will come from the manufacture of Gelfoam, Rogaine, Zyvox and Revolution (HTS 3006.10, 3305.90, 3004.90, duty-free). Components and materials sourced from abroad represent some 6% of all parts consumed in manufacturing. The primary inverted tariff savings will come from the following components: aromatic butyric/valeric acids, derivatives of acyclic alcohols, heterocyclic compounds with oxygen and lactones (HTS 2905.59, 2915.60, 2932.29 and 2932.99, duty rates range from duty-free to 6.5%). The company has also indicated that future plant manufacturing could involve pharmaceutical products under the following HTS numbers: 2309, 2915, 2916, 2917, 2918, 2920, 2921, 2922, 2923, 2924, 2925, 2926, 2928, 2930, 2931, 2932, 2933, 2934, 2935, 2936, 2937, 2938, 2939, 2941, 2942, 3001, 3002, 3003, 3004, 3006, 3305, 3804, 3808, 3822, 3824, 3911, 3913, 3914, 9817. Potential pharmaceutical product components include the following categories: 0511, 1108, 1301, 1302, 1504, 1505, 1520, 1521, 1702, 2102, 2106, 2207, 2501, 2519, 2526, 2710, 2811, 2821, 2825, 2827, 2835, 2836, 2840, 2843, 2844, 2845, 2851, 2902, 2903, 2904, 2905, 2906, 2907, 2908, 2909, 2910, 2911, 2912, 2913, 2914, 2915, 2916, 2917, 2918, 2921, 2922, 2923, 2924, 2926, 2930, 2931, 2932, 2933, 2934, 2935, 2936, 2937, 2939, 2940, 2941, 2942, 3301, 3306, 3503, 3504, 3505, 3507, 3812, 3815, 3821, 3822, 3824, 3905, 3907, 3910, 3912, 3913, 3914, 3919, 3921, 3923, 4016, 4802, 4804, 4817, 4819, 4821, 4823, 4901, 4908, 4911, 5601, 7010, 7607, 8309, 9018, 9602. In addition, the application indicates that they may import products under Chapter 32 or 42 of the HTSUS, but that such products would be admitted to the subzone in domestic or privileged-foreign status.

FTZ procedures would exempt Pfizer from Customs duty payments on the foreign components used in export production. Some 35 percent of the plant's shipments are exported. On its domestic sales, Pfizer would be able to choose the duty rates during Customs entry procedures that apply to pharmaceutical products (duty-free) for the foreign inputs noted above. The request indicates that the savings from FTZ procedures would help improve the plant's international competitiveness.

In accordance with the Board's regulations, a member of the FTZ staff has been appointed examiner to investigate the application and report to the Board.

Public comment is invited from interested parties. Submissions (original and 3 copies) shall be addressed to the Board's Executive Secretary at one of the following addresses:

1. Submissions Via Express/Package Delivery Services: Foreign-Trade-Zones Board, U.S. Department of Commerce, Franklin Court Building—Suite 4100W, 1099 14th St. NW., Washington, DC 20005; or

2. Submissions Via the U.S. Postal Service: Foreign-Trade-Zones Board, U.S. Department of Commerce, FCB-Suite 4100W, 1401 Constitution Ave. NW., Washington, DC 20230.

The closing period for their receipt is March 13, 2006. Rebuttal comments in response to material submitted during the foregoing period may be submitted during the subsequent 15-day period (to March 28, 2006).

A copy of the application and accompanying exhibits will be available for public inspection at the Office of the Foreign-Trade Zones Board's Executive Secretary at the first address listed above, and at the U.S. Department of Commerce Export Assistance Center, 401 W. Fulton St., Suite 309-C, Grand Rapids, Michigan 49504.

Dated: January 3, 2006.
Dennis Puccinelli,
Executive Secretary.

[FR Doc. E6-237 Filed 1-11-06; 8:45 am]

BILLING CODE 3510-DS-S